DEPARTMENT OF AGRICULTURE

Submission for OMB Review; Comment Request

The Department of Agriculture has submitted the following information collection requirement(s) to OMB for review and clearance under the Paperwork Reduction Act of 1995, Public Law 104-13. Comments are required regarding; whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by May 28, 2025 will be considered. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

Farm Service Agency

Title: 2017 Wildfires and Hurricanes Indemnity Program (2017 WHIP) and (Florida Citrus Block Grant) and Quality Loss Adjustment (QLA) Program.

OMB Control Number: 0560-0291.

Summary of Collection: The Bipartisan Budget Act of 2018 (BBA, Pub. L. 115-123) authorized $2.36 billion in assistance for losses to crops, trees, bushes, and vine losses due to 2017 wildfires and hurricanes. The Farm Service Agency (FSA) is implementing the provisions of the BBA by providing up to $2 billion in assistance to eligible producers through the 2017 WHIP, and approximately $340 million through a block grant with the State of Florida to address losses to citrus trees, and production.

FSA is also providing the QLA assistance to the producers as specified in the Disaster Relief Act. The Additional Supplemental Appropriations for Disaster Relief Act, 2019 (Disaster Relief Act; Pub. L. 116-20) also provides disaster assistance for necessary expenses related to losses of crops (including milk, on-farm stored commodities, crops prevented from planting in 2019, and harvested adulterated wine grapes), trees, bushes, and vines, as a consequence of hurricanes, floods, tornadoes, typhoons, volcanic activity, snowstorms, and wildfires occurring in calendar years 2018 and 2019.

Need and Use of the Information: In order for FSA to determine whether a producer is eligible for 2017 WHIP and to calculate a payment, a producer is required to submit FSA-890 2017, WHIP application; FSA-891, Crop Insurance and/or NAP Coverage Agreement; FSA-892, Request for an Exception to the WHIP Payment Limitation (if applicable); FSA-893, 2018 Citrus Actual Production History and Approved Yield Record (Florida Only); CCC-902, Farm Operating Plan for Payment Eligibility; FSA-578, Report of Acreage; and AD-1026, Highly Erodible Land Conservation (HELC) and Wetland Conservation Certification. The information collected from the forms will be used by FSA and the State of Florida to determine eligibility and distribute payments to eligible producers under WHIP.

In order to determine whether a producer is eligible for the QLA Program and to calculate a payment, a producer is required to submit form FSA-898, QLA Program application; form FSA-899, Historical Nutritional Value Weighted Average Worksheet (Continuation); form FSA-895, Crop Insurance and/or NAP Coverage Agreement; form FSA-578, Report of Acreage; required documentation of the producer's loss, form CCC-902I, Farm Operating Plan for Individuals; form CCC-901, Member's Information; form CCC-941, Average Adjusted Gross Income (AGI) Certification and Consent to Disclosure Tax Information; form CCC-942, Certification of Income from Farming, Ranching and Forestry Operations, if applicable, and form AD-1026, Highly Erodible Land Conservation (HELC) and Wetland Conservation Certification. Failure to submit the application and the additional forms would result in payments not being provided to eligible producers.

Description of Respondents: Individuals and households.

Number of Respondents: 7,248.

Frequency of Responses: Recordkeeping; Annually.

Total Burden Hours: 604.

Rachelle Ragland-Greene,
Departmental Information Collection Clearance Officer.

[FR Doc. 2025-07226 Filed 4-25-25; 8:45 am]

BILLING CODE 3410-05-P